DEPARTMENT OF HOMELAND SECURITY

[Docket No DHS-2014-0066]

Homeland Security Advisory Council—New Tasking

AGENCY: The Office of Policy, DHS.

ACTION: Notice of task assignment for the Homeland Security Advisory Council.

Summary: The Secretary of the Department of Homeland Security (DHS), Jeh Johnson tasked his Homeland Security Advisory Council (HSAC) to establish a subcommittee entitled the DHS Grant Review Task Force on Friday November 7, 2014. The DHS Grant Review Task Force will provide recommendations to the Homeland Security Advisory Council on how to improve the allocation of annual grant funds among jurisdictions. This notice informs the public of the establishment of the DHS Grant Review Task Force and is not a solicitation for membership.

FOR FURTHER INFORMATION CONTACT: Mike Miron, Director, Homeland Security Advisory Council and the DHS Grant Review Task Force at 202-447-3135 or mike.miron@dhs.gov.

SUPPLEMENTARY INFORMATION: The Homeland Security Advisory Council provides organizationally independent, strategic, timely, specific, and actionable advice and recommendations for the consideration of the Secretary of the Department of Homeland Security on matters related to homeland security. The Homeland Security Advisory Council is comprised of leaders of local law enforcement, first responders, state and local government, the private sector, and academia.

Tasking: The DHS Grant Review Task Force will develop findings and recommendations in the following topic areas: The DHS Grant Review Task Force should address, among other closely related topics, the following questions: (1) What are the outcomes that the grants process is intended to achieve? (2) What mechanisms are best suited to achieving the desired outcomes? (3) Can national advisory committees and sub-groups consisting of local, state, territorial, and tribal representation be used to create nationally-recognized communities of practice, which in turn can be used to set broad national priorities, share lessons learned, and practice determining capability and capacity targets? (4) What role can national standards-setting bodies play in helping to define capability and capacity targets and other assessment criteria?

Schedule: The DHS Grant Review Task Force's findings and recommendations will be submitted to the Homeland Security Advisory Council for their deliberation and vote during a public meeting. Once the report is approved it will be sent to the Secretary for his review and acceptance.

Dated: November 19, 2014.
Ben Haiman,
Deputy Executive Director, Homeland Security Advisory Council, DHS.

[FR Doc. 2014-27967 Filed 11-24-14; 8:45 am]

BILLING CODE 9110-10-P